SMALL BUSINESS ADMINISTRATION

Notice Seeking Exemption Under Section 312 of the Small Business Investment Act, Conflicts of Interest

Notice is hereby given that Horizon Ventures Fund II, L.P. (“Licensee”), 4 Main Street, Suite 50, Los Altos, CA 94022, an SBIC Licensee under the Small Business Investment Act of 1958, as amended (“the Act”), in connection with the financing of a small concern, has sought an exemption under section 312 of the Act and § 107.730, Financings which Constitute Conflicts of Interest, of the Small Business Administration (“SBA”) rules and regulations (13 CFR 107.730 (2004)). Horizon Ventures Fund II, L.P. proposes to provide equity financing to Invivodata, Inc., 5815 Scotts Valley Drive, Suite 150, Scotts Valley, CA 95066. The financing is contemplated for growth, modernization, working capital and business expansion.

The financing is brought within the purview of Section 107.730(a)(1) of the Regulations because Horizon Ventures Fund I, L.P. and Horizon Ventures Advisors Fund I, L.P., Associates of the Licensee currently own greater than 10 percent of Invivodata, Inc., and therefore Invivodata, Inc. is considered an Associate of the Licensee as defined in § 107.50 of the Regulations.

Notice is hereby given that any interested person may submit written comments on the transaction to the Associate Administrator for Investment, U.S. Small Business Administration, 409 Third Street, SW., Washington, DC 20416.

Dated: September 23, 2004.
Jeffrey D. Pierson,
Associate Administrator for Investment.

[FR Doc. 04-21997 Filed 9-29-04; 8:45 am]

BILLING CODE 8025-01-P